DEPARTMENT OF ENERGY

Western Area Power Administration

[DOE-EIS 0398]

Delta-Mendota Canal Intertie Project

AGENCY: Western Area Power Administration, DOE.

ACTION: Notice of Record of Decision and Floodplain Statement of Findings.

SUMMARY: The U.S. Department of Energy (DOE), Western Area Power Administration (Western), plans to authorize a new interconnection and design, construct, own, operate, and maintain a new 69-kilovolt (kV) transmission line and fiber optic cable for delivery of project use power as part of the Department of the Interior, Bureau of Reclamation, Mid-Pacific Region's (Reclamation) Delta-Mendota Canal (DMC)/California Aqueduct Intertie (Intertie) project. The Intertie, including the interconnection to Western's system and transmission line and fiber optic cable, was analyzed in a Reclamation Environmental Impact Statement (EIS) with the Final EIS dated and released in November 2009. The EIS was developed in compliance with the National Environmental Policy Act (NEPA).

Reclamation issued a Record of Decision (ROD) dated December 28, 2009, to proceed with the Intertie, described as its Proposed Action in the EIS. The Intertie would be located in Alameda County, California, and involves constructing and operating a pumping plant, a pipeline connection between the DMC and the California Aqueduct at Mile 7.2 of the DMC and Mile 9 of the California Aqueduct, a switchyard, access roads, and the transmission line. Reclamation served as the lead agency in the preparation of the NEPA documents for this project. Western, in accordance with the Council on Environmental Quality (CEQ) Regulations for Implementing NEPA (40 CFR Parts 1500-1508) and DOE NEPA Implementing Procedures (10 CFR Part 1021), served as a cooperating agency. Western adopted the EIS in March 2010 (DOE/EIS-0398) to meet its NEPA responsibilities for its transmission actions in support of the Intertie.

FOR FURTHER INFORMATION CONTACT: Mr. David Young, Environmental Protection Specialist, Western Area Power Administration, Sierra Nevada Region, 114 Parkshore Drive, Folsom, CA 95630-4710; telephone (916) 353-4542; e-mail dyoung@wapa.gov. Copies of the Draft EIS and Final EIS are available online at http://www.usbr.gov/mp/nepa/nepa_projdetails.cfm?Project_ID=1014. For general information about the DOE NEPA process, visit the DOE NEPA Program Web site at http://nepa.energy.gov/ or contact Ms. Carol M. Borgstrom, Director, Office of NEPA Policy and Compliance, GC-54, U.S. Department of Energy, 1000 Independence Avenue, SW., Washington, DC 20585; telephone (800) 472-2756.

SUPPLEMENTARY INFORMATION: The purpose of the Intertie is to improve the DMC conveyance conditions that restrict the C.W. “Bill” Jones Pumping Plant to less than its original-design authorized pumping capacity of 4,600 cubic feet per second (cfs) and to improve operational flexibility for operation, maintenance, and emergency activities. A lack of operational flexibility presently compromises the ability of the Central Valley Project, owned and operated by Reclamation, and the State Water Project to respond to emergencies, conduct necessary system maintenance, and provide capacity to respond to environmental opportunities in the Sacramento-San Joaquin River Delta (Delta). The amount, timing, and location of water deliveries from the DMC, apparent canal subsidence, siltation, the facility design, and other factors have resulted in a mismatch between designed/authorized Jones Pumping Plant export capacity and DMC conveyance capacity.

The primary project component of the Intertie would be a pumping plant with four electrically-powered pumping units having a total pumping capacity of 467 cfs although the maximum average monthly pumping is expected to be around 400 cfs. Water would be withdrawn from the DMC through a conventional-style intake structure and pumped uphill a vertical distance of about 50 feet through belowground pipelines and be discharged into the California Aqueduct. The pipeline would be located between the DMC and the California Aqueduct at Mile 7.2 of the DMC and Mile 9 of the California Aqueduct; all Intertie facilities would be in Alameda County, California. A switchyard would be located northwest of the pumping plant. The Intertie would be owned by Reclamation and operated by the San Luis & Delta-Mendota Water Authority (Water Authority).

Reclamation completed the EIS process and issued a ROD on December 28, 2009, authorizing the construction of the Intertie (Reclamation's Proposed Action and Preferred Alternative, also referred to as Alternative 2).

Western's Purpose and Need

Western's purpose and need for the proposed action is a result of Reclamation's request for an interconnection with Western's system. Reclamation requires a reliable electrical connection and power supply to run the Intertie pumps. Western's Open Access Transmission Service Tariff describes all conditions necessary for access to its transmission system. Western provides an interconnection to its transmission system if there is sufficient available capacity, while considering transmission system reliability and power delivery to existing customers, and the applicant's objectives.

Western's Proposed Action

Western plans to authorize a new interconnection and design, construct, own, operate, and maintain a new 69-kV transmission line and fiber optic cable for delivery of project use power as part of Reclamation's DMC Intertie project. Western would construct the new 4.5-mile-long 69-kV transmission line and fiber optic cable between its existing Tracy Substation and Reclamation's new DMC Intertie pumping plant switchyard. The transmission line would run parallel to the DMC for approximately 4.5 miles and would be constructed entirely on the west side of the canal and within the existing previously disturbed canal right-of-way.

The transmission line would be constructed using approximately 51 wood poles and 25 glue laminate poles which would be placed in augered holes in the spoil piles that border the canal from its construction. The holes would be no more than 3 feet, 5 inches in diameter and approximately 14 feet in depth, supporting poles approximately 61 feet tall. A crane using the existing access and maintenance road along the canal would be used to set the transmission structures. Although span lengths will vary according to ground and alignment conditions, it is estimated that the average span length across straight segments of the transmission line would be approximately 300 feet. The existing access and maintenance road would be realigned where necessary to accommodate transmission line structures, but the upgraded access road would remain on the spoil area and within the canal right-of-way.

The majority of the soil extracted from augered holes would be backfilled and compacted to support the poles. The remainder would be placed back onto the spoil piles. Wood poles would be free standing without guy wires. Conductor, fiber optic cable, and optical ground wire would be strung on these poles. Transmission line installation would result in a permanent ground disturbance of approximately 3 to 13 square feet for each pole; the total permanent ground disturbance for the entire transmission line would be 0.005 to 0.02 acre. These estimates are based on a permanent ground disturbance diameter of 2 to 4 feet for each pole.

The fiber optic cable would provide a communications link between the substation and the switchyard. Western would install a new load break disconnect at the Tracy Substation to provide reliability and flexibility for the new power service. Western would also install a new fused disconnect on the new transmission line to provide protection for the line and flexibility for other electrical service.

Alternatives Considered

Reclamation evaluated four alternatives in their Intertie EIS, including No Action, with the transmission line being included as a component in two of the evaluated action alternatives. Due to the locations of the Tracy Substation, the DMC, and Reclamation's switchyard, locating the transmission line along the DMC was an obvious opportunity to consolidate project facilities and minimize possible environmental impacts. This route kept the new transmission line within the existing canal right-of-way and on a previously disturbed area, the side-cast spoil from the original construction of the DMC. The route also allowed use of the existing canal access and maintenance road to be used for construction and future maintenance of the transmission line. A cursory review indicated that any potential alternative transmission line routes would impact other landowners, add to the overall length of the line, likely impact previously undisturbed areas, and clearly increase overall potential impacts to environmental resources. Given the opportunity to use the existing canal right-of-way and minimize environmental impacts, no other transmission alignment options were developed for the Intertie project.

Environmentally Preferred Alternative

Reclamation identified their Alternative 4 (Virtual Intertie) as the Environmentally Preferred Alternative. This alternative relied on temporary facilities and would not require Western to construct the transmission line. However, this alternative did not meet all of Reclamation's objectives and needs; therefore, Reclamation made the decision to implement their Preferred Alternative (Alternative 2) that includes the transmission line component.

Public Involvement

A Notice of Intent announcing the preparation of an EIS was published in the Federal Register on July 12, 2006. Reclamation issued a news release on July 20, 2006, seeking public input on preparation of an EIS for the Intertie project. Two scoping meetings were held to solicit written comments about the scope of the environmental review. A Sacramento meeting was held August 1, 2006, and a Stockton meeting was held August 3, 2006. Comments were received and incorporated as appropriate into the EIS. Additionally, a scoping report was prepared.

Reclamation filed a Notice of Availability for the Draft EIS in the Federal Register on July 17, 2009. The Draft EIS was circulated for public review for 45 days, during which time Reclamation held two public hearings (August 4 and 5, 2009). No oral comments were received during these hearings, but 10 written comments were received during the public review period. All written comments were incorporated into the Final EIS which was released on November 20, 2009, and circulated for public review for 30 days.

Environmental Impacts

The scoping process and prior litigation revealed several areas of controversy surrounding the Intertie. The Intertie is controversial as it relates to diversions from the Delta and construction of facilities near the Transmission Agency of Northern California's California-Oregon Transmission Project. In the past several years, virtually any project proposal to change diversions in the Delta has been met with great resistance from a variety of agencies, organizations, and landowners depending on the specific proposal. Reclamation, in coordination with Western and the Water Authority, addressed each of the identified areas of controversy in the Intertie EIS through changes in the project, impact assessment, and inclusion of measures required for Endangered Species Act (ESA) compliance. No controversy or substantive environmental impacts were identified associated with Western's action of constructing the transmission line and related activities, primarily because of the selection of the route along the DMC, as described above under the heading “Alternatives Considered.”

Consultation

As part of the development of the Intertie, Reclamation coordinated with several agencies, including U.S. Fish and Wildlife Service (USFWS), California Department of Water Resources (DWR), the State Historic Preservation Officer (SHPO), and Western and the Water Authority as cooperating agencies. Reclamation's ROD, which was signed on December 28, 2009, is available online at http://www.usbr.gov/mp/nepa/nepa_projdetails.cfm?Project_ID=1014. Reclamation coordinated with USFWS for development of the Coordination Act Report and consultation under Section 7 of the ESA and with DWR to obtain right-of-way access on the California Aqueduct. The SHPO concurred with Reclamation's finding that the Intertie would have no adverse effect on historic properties pursuant to 36 CFR 800.5(a). Reclamation's consultations and the Intertie EIS satisfy Western's NEPA compliance documentation requirements for the interconnection and construction, operation, and maintenance of the new transmission line and fiber optic cable for delivery of power for the Intertie.

Mitigation

Reclamation and Western adopted all practicable means to avoid or minimize adverse effects on the environment that would result from the implementation of the Intertie. Where feasible and appropriate, Reclamation and Western will implement mitigation measures as specified in Reclamation's ROD. The ROD includes a summary of all the environmental commitments and mitigation for the Intertie, specifies the party responsible for implementation, and provides a time frame for completion. Reclamation and Western will ensure that the environmental commitments and mitigation measures are effectively implemented and completed according to schedule during design, construction, and operation as required.

Floodplain Statement of Findings

In accordance with 10 CFR 1022, the Intertie EIS considered the potential impacts of the Intertie on floodplains and wetlands. Section 4.2 “Vegetation and Wetlands” of the EIS includes a map of all wetland resources and drainage features in the study area. Flood hazard areas identified on the Federal Emergency Management Agency (FEMA) Flood Insurance Rate Maps are identified as a Special Flood Hazard Area (SFHA). SFHA is defined as the area that will be inundated by the flood event having a one percent chance of being equaled or exceeded in any given year. The one percent annual chance flood is also referred to as the base flood or 100-year flood. According to FEMA Flood Insurance Rate Map 06077c07457, the majority of the Intertie study area is located within Zone X with a small portion located within Zone AE. There are no practical means of avoiding floodplain areas. Implementation of environmental commitments and mandatory compliance with applicable floodplain management standards as set forth by FEMA will ensure the Intertie does not substantially alter the normal drainage patterns, affect runoff rates, or contribute to the impedance of flood flows.

The Intertie study area contains Seasonal, Emergent marsh, Alkali wetlands, and Perennial, Intermittent, and Ephemeral drainages. Clean Water Act Section 404 regulates the discharge of dredged and fill materials into waters of the United States. Waters of the United States refers to oceans, bays, rivers, streams, lakes, ponds and wetlands. EIS Section 4.2 “Vegetation and Wetlands” includes an evaluation of the Intertie impacts on wetlands and determined that none of the Intertie alternatives would result in the discharge of dredged or fill material into any wetland or water. Western will coordinate with Reclamation to ensure compliance with all applicable floodplain and wetland protection standards and requirements applicable to the construction, operation, and maintenance of the transmission line.

Decision

Western's decision is to interconnect the Intertie to Western's system and design, construct, own, operate, and maintain a new 69-kV transmission line, fiber optic cable, disconnects, and related equipment in support of Reclamation's decision to construct the Intertie as summarized above and described in detail in the EIS. This decision is based on the information contained in the DMC Intertie EIS which Western adopted in March 2010 as DOE/EIS-0398. This ROD was prepared in accordance with CEQ Regulations for Implementing NEPA (40 CFR Parts 1500-1508) and DOE NEPA Implementing Procedures (10 CFR Part 1021). Full implementation of this decision is contingent upon the implementation of all identified environmental commitments and mitigation measures applicable to Western's action and obtaining all applicable permits and approvals.

Dated: September 2, 2010.
Timothy J. Meeks,
Administrator.

[FR Doc. 2010-23066 Filed 9-14-10; 8:45 am]

BILLING CODE 6450-01-P